DEPARTMENT OF ENERGY

Federal Energy Regulatory Commission

[Docket No. RP00-419-000]

TransColorado Gas Transmission Company; Notice of Tariff Filing

August 2, 2000.

Take notice that on July 31, 2000, TransColorado Gas Transmission Company (TransColorado) tendered for filing to become part of its FERC Gas Tariff, Original Volume No. 1, the following tariff sheets, to be effective March 26, 2000:

Fourth Revised Sheet No. 215

Fourth Revised Sheet No. 216

Third Revised Sheet No. 218

Third Revised Sheet No. 221

Fourth Revised Sheet No. 222

Third Revised Sheet No. 222A

On February 9, 2000, and May 19, 2000, the Commission issued Order Nos. 637 and 637-A, respectively, in Docket Nos. RM98-10 and RM98-12 requiring pipeline companies to, among other things, waive the price ceiling for short-term capacity-release transactions beginning March 26, 2000, and extending through September 30, 2002. Pipeline companies are required to file tariff revisions within 180 days of the effective date of the rule, i.e., March 26, 2000, to remove tariff provisions that are inconsistent with the waiver of the price cap. This filing reflects modifications in TransColorado's tariff to incorporate this requirement.

TransColorado states that a copy of this filing has been served upon TransColorado's customers, the Colorado Public Utilities Commission and New Mexico Public Utilities Commission.

Any person desiring to be heard or to protest said filing should file a motion to intervene or a protest with the Federal Energy Regulatory Commission, 888 First Street NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-19964 Filed 8-7-00; 8:45 am]

BILLING CODE 6717-01-M